DEPARTMENT OF COMMERCE

National Oceanic and Atmospheric Administration

[RTID 0648-XA051]

Gulf of Mexico Fishery Management Council; Public Meeting

AGENCY: National Marine Fisheries Service (NMFS), National Oceanic and Atmospheric Administration (NOAA), Commerce.

ACTION: Notice of a public meeting via webinar.

SUMMARY: The Gulf of Mexico Fishery Management Council will hold a meeting via webinar of its Standing, Reef Fish, Mackerel, Shrimp and Socioeconomic Scientific and Statistical Committees (SSC).

DATES: The webinar will convene on Wednesday, March 11, 2020, from 9 a.m. to 11:30 a.m., EST.

ADDRESSES: You may register for the webinar by visiting www.gulfcouncil.org and clicking on the SSC meeting on the calendar.

Council address: Gulf of Mexico Fishery Management Council, 4107 W Spruce Street, Suite 200, Tampa, FL 33607; telephone: (813) 348-1630.

FOR FURTHER INFORMATION CONTACT: Ryan Rindone, Fishery Biologist, Gulf of Mexico Fishery Management Council; ryan.rindone@gulfcouncil.org, telephone: (813) 348-1630.

SUPPLEMENTARY INFORMATION:

Wednesday, March 11, 2020; 9 a.m.-11:30 a.m.

The meeting will begin with introductions, adoption of agenda, and approval of minutes from the January 9, 2020 meeting; along with a review of the scope of work and selection of an SSC Representative to attend the March/April Council meeting in Gulf Shores, AL. The Committees will review the shrimp stock assessments, the landings and effort for Gulf of Mexico (GOM) shrimp, and an index of landings for royal red shrimp. Council staff will review scope of work for both the GOM Yellowedge Grouper Operational Assessment and for the GOM Migratory Group Spanish Mackerel Operational Assessment. The SSC will review an update on SEDAR 49: Lane Snapper with Marine Recreational Information Program-Fishing Effort Survey (MRIP-FES) Data including overfishing limit (OFL) and acceptable biological catch (ABC) recommendations, excluding discards. The SSC will also discuss the revised Optimum Yield options in Reef Fish 48/Red Drum 5.

Lastly, the SSC will discuss any Other Business items.

—Meeting Adjourns

The meeting will be broadcast via webinar. You may register for the webinar by visiting www.gulfcouncil.org and clicking on the SSC meeting on the calendar.

The Agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Authority: 16 U.S.C. 1801 et seq.

Dated: February 18, 2020.
Tracey L. Thompson,
Acting Deputy Director, Office of Sustainable Fisheries, National Marine Fisheries Service.

[FR Doc. 2020-03499 Filed 2-20-20; 8:45 am]

BILLING CODE 3510-22-P